DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held July 12 & 13, 2006, at the Cottonwood Inn, in Glasgow, Montana.

The July 12 session will begin at 8 a.m. and consist of a field trip to public lands in the Glasgow area.

This tour is scheduled to adjourn at 5 p.m.

The July 13 meeting will begin at 8 a.m. with a 30-minute public comment period.

This meeting is scheduled to adjourn at 3 p.m.

SUPPLEMENTARY INFORMATION: This 15-member council advises the Secretary of the Interior on a variety of management issues associated with public land management in Montana. At this meeting the council will discuss/act upon:

The minutes of their proceeding meeting;

A discussion of the American Prairie Foundation project;

A briefing concerning the upcoming Malta Resource Management Plan;

A review of Revised Statute—2477,

An update about the Bowdoin Gas Field;

A discussion of proposed revisions to grazing regulations;

A briefing about transportation planning; and

Administrative details.

All RAC meetings are open to the public. The public may present written comments to the RAC. Each formal RAC meeting will also have time allocated for hearing public comments. Depending on the number of persons wishing to comment and time available, the time for individual oral comments may be limited.

FOR FURTHER INFORMATON CONTACT: June Bailey, Lewistown Field Manager, Lewistown Field Office, P.O. Box 1160, Lewistown, Montana 59457 or at 406-538-1900.

Dated: June 8, 2006.
June Bailey,
Lewistown Field Manager.

[FR Doc. E6-9340 Filed 6-14-06; 8:45 am]

BILLING CODE 4310-$$-P